DEPARTMENT OF HOMELAND SECURITY

Coast Guard

33 CFR Part 117

[Docket No. USCG-2009-0795]

Drawbridge Operation Regulations; Hampton River, Hampton, NH, Maintenance

AGENCY: Coast Guard, DHS.

ACTION: Notice of temporary deviation from regulations.

SUMMARY: The Commander, First Coast Guard District, has issued a temporary deviation from the regulation governing the operation of the SR1A Bridge across the Hampton River at mile 0.0, at Hampton, New Hampshire. This temporary deviation allows the SR1A Bridge to remain in the closed position for 10 hours to facilitate bridge maintenance.

DATES: This deviation is effective from 7 a.m. through 5 p.m. on September 15, 2009.

ADDRESSES: Documents mentioned in this preamble as being available in the docket are part of docket USCG-2009-0795 and are available online at http://www.regulations.gov, inserting USCG-2009-0795 in the “Keyword” and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, telephone (617) 223-8364, john.w.mcdonald@uscg.mil. If you have questions on viewing the docket, call Renee V. Wright, Program Manager, Docket Operations, telephone 202-366-9826.

SUPPLEMENTARY INFORMATION: The SR1A Bridge, across the Hampton River at mile 0.0, at Hampton, New Hampshire, has a vertical clearance in the closed position of 18 feet at mean high water and 26 feet at mean low water. The existing drawbridge operation regulations are listed at 33 CFR 117.697.

The waterway predominantly supports recreational vessels of various sizes.

The bridge owner, New Hampshire Department of Transportation, requested a temporary deviation to facilitate necessary bridge maintenance.

Under this temporary deviation the SR1A Bridge may remain in the closed position from 7 a.m. through 5 p.m. on September 15, 2009. Vessels that can pass under the bridge without a bridge opening may do so at all times.

In accordance with 33 CFR 117.35(e), the bridge must return to its regular operating schedule immediately at the end of the designated time period. This deviation from the operating regulations is authorized under 33 CFR 117.35.

Dated: August 27, 2009.
Gary Kassof,
Bridge Program Manager, First Coast Guard District.

[FR Doc. E9-21560 Filed 9-4-09; 8:45 am]

BILLING CODE 4910-15-P